DEPARTMENT OF EDUCATION

Striving Readers Comprehensive Literacy Grant Program; Office of Elementary and Secondary Education; Overview Information; Striving Readers Comprehensive Literacy Grant Program; Notice Inviting Applications for New Awards for Fiscal Year (FY) 2011

Catalog of Federal Domestic Assistance (CFDA) Number: 84.371C.

Dates:

Applications Available: March 10, 2011.

Deadline for Notice of Intent to Apply: April 1, 2011.

Deadline for Transmittal of Applications: May 9, 2011.

Deadline for Intergovernmental Review: July 5, 2011.

Full Text of Announcement

I. Funding Opportunity Description

Purpose of Program: The purpose of the Striving Readers Comprehensive Literacy grant program (SRCL) is to advance literacy skills—including pre-literacy skills, reading, and writing—for students from birth through grade 12, including limited-English-proficient students and students with disabilities.

Through this program, the Department will award competitive grants to State educational agencies (SEAs) to support competitive subgrants to local educational agencies (LEAs), including charter schools that are considered LEAs under State law, or other eligible entities for the purpose of advancing literacy skills.

Priorities: This notice contains three priorities, two of which are absolute and one of which is competitive preference. We are establishing these priorities for the FY 2011 grant competition and any subsequent year in which we make awards from the list of unfunded applicants from this competition, in accordance with section 437(d)(1) of the General Education Provisions Act (GEPA), 20 U.S.C. 1232(d)(1).

Absolute Priorities: The first two priorities, Improving Learning Outcomes and Enabling More Data-Based Decision-Making, are absolute priorities. Under 34 CFR 75.105(c)(3) we consider only applications that meet these priorities.

These priorities are:

Priority 1: Improving Learning Outcomes

Background: Improving the language and literacy development of disadvantaged students is essential to improving academic achievement for these students in all content areas. The 2009 National Assessment of Educational Progress (NAEP) results show disproportionately large numbers of disadvantaged students struggle with developing the necessary pre-literacy and literacy skills needed to read, comprehend, and use language effectively. This results in persistent gaps in academic achievement through the elementary and secondary school years and in high school graduation rates, and presents civic and economic difficulties for these students later in life. Meeting the language and literacy needs of disadvantaged students, including limited-English-proficient students and students with disabilities, is a particular focus of the SRCL program.

Priority

To meet this priority, an applicant must propose a project that is designed to improve school readiness and success through grade 12 in the area of language and literacy development for disadvantaged students (as defined in this notice).

Priority 2: Enabling More Data-Based Decision-Making

Background: Accurate, timely, relevant, and appropriate data, and the effective use of that data for informed decision-making, are essential to the continuous improvement of children's literacy and language development. In developing comprehensive literacy plans and programs, it is important for States to consider strategies that provide educators, as well as families and other key stakeholders, with the data they need and the capacity and training to use those data to improve school readiness, respond to the learning and academic needs of students, improve educator effectiveness, inform professional development practices and approaches, and make informed decisions that increase student pre-literacy, literacy, and language development.

Priority

To meet this priority, an applicant must propose a project that is designed to collect, analyze, and use high-quality and timely data, especially on program participant outcomes, in accordance with privacy requirements (as defined in this notice), to improve instructional practices, policies, and student outcomes in early learning settings and in elementary and secondary schools.

Competitive Preference Priorities: The following priority is a competitive preference priority. Under 34 CFR 75.105(c)(2)(ii) we award up to an additional five points to an application that meets this priority.

This priority is:

Competitive Preference Priority: Effective Use of Technology

Background: The effective use of technology is a critical tool for improving learning outcomes and providing teachers with high-quality professional development. Use of concepts, ideas, programming techniques, and computer-assisted text displays that give access to the text for students who cannot access traditional print, including limited-English-proficient children and students with disabilities, is a basic tenet of universal design for learning and can help improve students' literacy and language development and identify and address student learning challenges.

Priority

To meet this priority, an applicant must (1) propose to use technology—which may include technology to support principles of universal design for learning (as defined in this notice)—to address student learning challenges; and (2) provide, in its application, an evidence-based (as defined in this notice) rationale that its proposed technology program, practice, or strategy will increase student engagement and achievement or increase teacher effectiveness.

Program Requirements

Statutory Requirements (see Department of Education Appropriations Act, 2010 (Pub. L. 111-117)). An SEA awarded a grant under this program—

(a) Must subgrant no less than 95 percent of funds received under this competition to LEAs or, in the case of early literacy, to LEAs or other nonprofit providers of early childhood education that partner with a public or private nonprofit organization or agency with a demonstrated record of effectiveness in improving the early literacy development of children from birth through kindergarten entry and in providing professional development (as defined in this notice) in early literacy, giving priority to such agencies or other entities serving greater numbers or percentages of disadvantaged students;

(b) Must ensure that at least—

(1) 15 percent of the funds it subgrants to LEAs or other nonprofit providers of early childhood education (SRCL subgranted funds) are used to serve children from birth through age 5;

(2) 40 percent of its SRCL subgranted funds are used to serve students in kindergarten through grade 5; and

(3) 40 percent of its SRCL subgranted funds are used to serve students in middle and high school, including an equitable distribution of funds between middle and high schools;

(c) May reserve up to 5 percent of funds received under this competition for State leadership activities, including technical assistance and training, data collection, reporting, and administration.

Additional Requirements

The Department establishes the following additional requirements for the FY 2011 competition and any subsequent year in which we make awards from the list of unfunded applications from this competition.

An SEA awarded a grant under this program—

(a) Must develop or update, implement, and continuously improve a comprehensive State literacy plan (as defined in this notice);

(b) Must align the use of Federal and State funds and programs within the SEA and in LEAs in the State, including funds under Title I, Title II-A, and Title III of the Elementary and Secondary Education Act of 1965, as amended (ESEA), and, as appropriate, under the Head Start Act, the Individuals with Disabilities Education Act, and the Carl D. Perkins Career and Technical Education Act of 2006, to support a coherent approach to funding and implementing effective literacy instruction (as defined in this notice) for disadvantaged students;

(c) Must make the process and the results of its review of subgrant applications publicly available, including the procedures the SEA used to review and judge the evidence base and the alignment with State standards for the curricula and materials LEAs propose to use; and

(d) Must ensure that SRCL subgrant funds are used to implement a comprehensive and coherent literacy program that serves students from birth through grade 12, or at any period in the birth through grade 12 continuum as determined by a needs assessment, and includes each of the components of effective literacy instruction and that—

(1) Provides effective professional development in literacy, including in instructional strategies to meet the literacy needs of disadvantaged students such as limited-English-proficient students and students with disabilities, to teachers of reading, English, or language arts, which may also include professional development in literacy for teachers of other subjects and for teachers or instructional providers for children from birth through age five;

(2) Uses curriculum and instructional materials that are aligned with State standards, incorporate the components of effective literacy instruction, and, as appropriate, incorporate technology and principles of universal design for learning to support children and youth with diverse learning needs, including disadvantaged students;

(3) Uses coherent assessment systems that are aligned with State standards and assessments and that include—

(i) Valid and reliable screening measures or strategies;

(ii) Valid and reliable diagnostic and progress-monitoring measures;

(iii) The systematic use of the assessment data to inform instruction, interventions, professional development, and continuous program improvement; and

(iv) Appropriate accommodations necessary to ensure that all children and youth, including disadvantaged students, are reliably and accurately assessed;

(4) Implements interventions to ensure that all children and youth, including both children and youth who have mastered the material ahead of their peers and children and youth struggling with the material, are served appropriately;

(5) Provides language- and text-rich classroom, school, and early learning program environments that engage and motivate children and youth in speaking, listening, reading, and writing; and

(6) Informs continuous improvement by monitoring program implementation and outcomes, including the effectiveness of professional development, and tracking implementation and outcomes at the LEA or early childhood education provider, school, classroom, and student levels.

Program Definitions: In addition to the definitions in the authorizing statute and in 34 CFR 77.1, we establish the following definitions to apply to the FY 2011 competition and any subsequent year in which we make awards from the list of unfunded applicants from this competition:

Comprehensive State literacy plan: The term “comprehensive State literacy plan” means a plan (which may be a component or modification of the plan submitted under the Striving Readers Comprehensive Literacy formula grant program, CFDA 84.371B) that addresses the pre-literacy and literacy needs of children from birth through grade 12, including limited-English-proficient students and students with disabilities; aligns policies, resources, and practices; contains clear instructional goals; and sets high expectations for all students and student subgroups.

Disadvantaged students: The term “disadvantaged students” means children and students at risk of educational failure, such as children and students who are living in poverty, who are limited-English-proficient, who are far below grade level or who are not on track to becoming college- or career-ready by graduation, who have left school before receiving a regular high school diploma, who are at risk of not graduating with a diploma on time, who are homeless, who are in foster care, who are pregnant or parenting teenagers, who have been incarcerated, who are new immigrants, who are migrant, or who have disabilities.

Effective literacy instruction: The term “effective literacy instruction” means developmentally appropriate, explicit, evidence-based, and systematic instruction that provides students with—

(i) Early development and grade-level mastery of (A) oral language skills, both listening and speaking, (B) phonological awareness, using a wide vocabulary, (C) conventional forms of grammar, and (D) academic language;

(ii) The ability to read regularly spelled words and high-frequency irregularly spelled words with automaticity and to decode regularly spelled unfamiliar words accurately, using phonemic awareness, print awareness, alphabet knowledge, and knowledge of English spelling patterns;

(iii) The ability to read texts accurately, fluently, and with comprehension, relying on knowledge of the vocabulary in those texts and of the background information that the students possess;

(iv) The ability to read with a purpose and the capacity to differentiate purposes and to select and apply comprehension strategies appropriate to achieving the purpose;

(v) An understanding of, and ability to adapt to, the varying demands of different genres, formats, and types of texts across the core content areas in order to comprehend texts of appropriate levels of complexity and content, including texts necessary for mastery of grade-level standards;

(vi) The ability to effectively access, critically evaluate, and appropriately synthesize information from a variety of sources and formats;

(vii) The development and maintenance of a motivation to read and write, as reflected in habits of reading and writing regularly and of discussing one's reading and writing with others; and

(viii) The ability to write clearly, accurately, and quickly so as to communicate ideas and deepen comprehension in ways that fit purpose, audience, occasion, discipline, and format; adhere to conventions of spelling and punctuation; and benefit from revision so as to improve clarity, coherence, logical development, and the precise use of language.

With respect to programs serving children birth through age five, the term “effective literacy instruction,” means supporting young children's early language and literacy development through developmentally appropriate, explicit, intentional, and systematic instruction, in language- and literacy-rich environments, that provides children with foundational skills and dispositions for literacy, such as—

(i) Rich vocabulary development;

(ii) Expressive language skills;

(iii) Receptive language skills;

(iv) Comprehension;

(v) Phonological awareness;

(vi) Print awareness;

(vii) Alphabet knowledge;

(viii) Book knowledge;

(ix) Emergent writing skills;

(x) Positive dispositions toward language and literacy-related activities; and

(xi) Other skills that correlate with later literacy achievement.

Evidence-based: The term “evidence-based” means—

(i) Based on a comprehensive, unbiased review and weighing of one or more evaluation studies that—

(A) Have been carried out consistent with the principles of scientific research ¹;

¹ For purposes of this notice, the term “principles of scientific research” has the meaning provided in section 200(18) of the Higher Education Act of 1965, as amended; that is, it means principles of research that—

(A) Apply rigorous, systematic, and objective methodology to obtain reliable and valid knowledge relevant to education activities and programs;

(B) Present findings and make claims that are appropriate to, and supported by, the methods that have been employed; and

(C) Include, appropriate to the research being conducted—

(i) Use of systematic, empirical methods that draw on observation or experiment;

(ii) Use of data analyses that are adequate to support the general findings;

(iii) Reliance on measurements or observational methods that provide reliable and generalizable findings;

(iv) Strong claims of causal relationships, only with research designs that eliminate plausible competing explanations for observed results, such as, but not limited to, random-assignment experiments;

(v) Presentation of studies and methods in sufficient detail and clarity to allow for replication or, at a minimum, to offer the opportunity to build systematically on the findings of the research;

(vi) Acceptance by a peer-reviewed journal or critique by a panel of independent experts through a comparably rigorous, objective, and scientific review; and

(vii) Consistency of findings across multiple studies or sites to support the generality of results and conclusions.

(B) Have strong internal and external validity; and

(C) Support the direct attribution of one or more outcomes to the program, practice, or policy; or

(ii) In the absence of one or more studies described in paragraph (i) of this definition, based on a comprehensive, unbiased review and weighing of data analysis, research, or one or more evaluation studies of relevant programs, policies, or practices, that—

(A) Were carried out consistent with the principles of scientific research; and

(B) Are accompanied by strategies to generate more robust evidence over time through research, evaluation, and data analysis, including the measurement of performance with reliable process and outcome indicators and the implementation of evaluations with strong internal and external validity where feasible and appropriate.

Privacy requirements: The term “privacy requirements” means the requirements of the Family Educational Rights and Privacy Act (FERPA), 20 U.S.C. 1232g, and its implementing regulations in 34 CFR part 99, the Privacy Act, 5 U.S.C. 552a, as well as all applicable Federal, State, and local requirements regarding privacy.

Professional development: The term “professional development” means coordinated and aligned activities that are designed to increase the effectiveness of educators, which may include teachers, principals, other school leaders, specialized instructional support personnel, paraprofessionals, early childhood educators, and other school staff, and that—

(i) Are based, to the extent possible, on an analysis of data and evidence that indicates the needs of students and teachers;

(ii) Are evidence-based and implemented with meaningful tracking of impact on educator practices and effectiveness;

(iii) Foster individual and collective responsibility for improving student academic achievement;

(iv) Align with State academic content standards or State early learning standards, as appropriate, with LEA and school or early learning program improvement goals, and with school or early learning program instructional materials;

(v) Focus on understanding what and how students learn and on how to address students' learning needs, including by reviewing and analyzing student work and achievement data and adjusting instructional strategies, assessments, and materials based on that review and analysis;

(vi) Where appropriate, focus on improving both content knowledge and pedagogical skill;

(vii) Set clear educator learning goals based on student and teacher learning needs;

(viii) Address educator needs identified through evaluation, including by providing support for teachers and principals who earn evaluation ratings indicating the need for opportunities to improve their knowledge and skills;

(ix) Are designed to provide educators with the instructional strategies necessary to meet the needs of disadvantaged students, including limited-English-proficient students and students with disabilities;

(x) Are active, sustained, intensive, and classroom-or early learning program-focused in order to have a positive and lasting impact on classroom or early learning program instruction and educator effectiveness;

(xi) Are, in general, provided through school- or early learning program-based, job-embedded opportunities for educators to work collaboratively and transfer new knowledge into classroom or early learning program practice, such as through classroom coaching, data analysis teams, observations of classroom practice, and the provision of common planning time; and

(xii) Are, as appropriate—

(A) Designed to improve educators' ability to collect, manage, and analyze data to improve instruction, student support services, decision-making, school improvement efforts, early learning program quality improvement efforts, and accountability;

(B) Designed to provide educators with the knowledge and skills to work more effectively with families;

(C) Provided through workshops, courses, institutes, on-line learning, and other activities that advance and supplement school-based or early learning program-based professional development;

(D) Implemented with the involvement of external experts with relevant expertise, including content expertise; and

(E) Designed to provide joint professional development activities, for school staff and other early childhood educators in publicly funded center-based programs, that address the transition to elementary school, including issues related to school readiness across all major domains of early learning.

Universal design for learning (UDL): The term “universal design for learning”, as defined under section 103 of the Higher Education Act of 1965, as amended, means a scientifically valid framework for guiding educational practice that—

(i) Provides flexibility in the ways information is presented, in the ways students respond or demonstrate knowledge and skills, and in the ways students are engaged; and

(ii) Reduces barriers in instruction, provides appropriate accommodations, supports, and challenges, and maintains high achievement expectations for all students, including students with disabilities and students who are limited-English-proficient.

Waiver of Proposed Rulemaking: Under the Administrative Procedure Act (5 U.S.C. 553) the Department generally offers interested parties the opportunity to comment on proposed priorities, requirements, definitions, and selection criteria. Section 437(d)(1) of GEPA, however, allows the Secretary to exempt from rulemaking requirements, regulations governing the first grant competition under a new or substantially revised program authority. This is the first grant competition for this program as provided under the Consolidated Appropriations Act, 2010 (Pub. L. 111-117) under the authority in section 1502 of the ESEA and therefore qualifies for this exemption. To receive public input on the structure of this competition, the Department held a public input meeting on November 19, 2010. This full-day meeting featured two panels of experts and elicited over 50 comments, both written and offered in person. In order to ensure timely grant awards, the Secretary has decided to forgo public comment on the priorities, additional requirements, definitions, and selection criteria under section 437(d)(1) of GEPA. These priorities, additional requirements, definitions, and selection criteria will apply to the FY 2011 grant competition and any subsequent year in which we make awards from the list of unfunded applicants from this competition.

Program Authority: Consolidated Appropriations Act, 2010 (Pub. L. 111-117) and 20 U.S.C. 6492.

Applicable Regulations: The Education Department General Administrative Regulations (EDGAR) in 34 CFR parts 74, 75, 77, 79, 80, 81, 82, 84, 85, 86, 97, 98, and 99.

Note: The regulations in 34 CFR part 79 apply to all applicants except Federally recognized Indian Tribes.

II. Award Information

Type of Award: Discretionary grants.

Estimated Available Funds: $178,000,000.

Contingent upon the availability of funds and the quality of applications, we may make additional awards in FY 2012 from the list of unfunded applicants from this competition.

Estimated Range of Awards: $3,000,000-$70,000,000.

Estimated Average Size of Awards: $25,000,000.

Estimated Number of Awards: 3-18.

Maximum Award: In order to balance the goal of stimulating comprehensive literacy reform by funding high-quality plans with the goal of recognizing a number of States that can serve as models for other States, the Department has developed mandatory budget limits by category of SEA awarded a grant under this program. These limits were determined by ranking every State according to its share of the national population of children in poverty ages 5 through 17 based on data from “Table 1: 2009 Poverty and Median Income Estimates—States” released by the Small Area Estimates Branch of the U.S. Census Bureau in December 2010. The Department identified the natural breaks in the data and then developed budget ranges for each category taking into consideration the total amount of funds available for awards under this program. These budget limits are mandatory for the SRCL competition. SRCL grantees will serve as models of best practices in comprehensive literacy education across the States and the country; accordingly, we want to ensure that the Secretary can fund, at an adequate level, a sufficient number of high-quality applications with available funding.

For the FY 2011 competition and any subsequent year in which we make awards from the list of unfunded applicants from this competition, the applicant's proposed budget must conform to the following budget limits:

Category 1—up to $70 million: California, Texas.

Category 2—up to $50 million: Florida, Georgia, Illinois, Michigan, New York, North Carolina, Ohio, Pennsylvania, Puerto Rico.

Category 3—up to $30 million: Alabama, Arizona, Indiana, Kentucky, Louisiana, Mississippi, Missouri, New Jersey, South Carolina, Tennessee, Virginia, Washington.

Category 4—up to $15 million: Arkansas, Colorado, Connecticut, Iowa, Kansas, Maryland, Massachusetts, Minnesota, Nevada, New Mexico, Oklahoma, Oregon, West Virginia, Wisconsin, Utah.

Category 5—up to $8 million: Alaska, Delaware, District of Columbia, Hawaii, Idaho, Maine, Montana, Nebraska, New Hampshire, North Dakota, Rhode Island, South Dakota, Vermont, Wyoming.

While each SEA applying for funds under this competition should develop a budget that is appropriate for the plan it outlines in its application, we will not consider an application if its budget request exceeds the budget limit provided in this notice for the applicant's category.

Note: The Department is not bound by any estimates in this notice.

Project Period: Up to 60 months.

Budget Periods and Continuation Grants: Grants awarded under this competition may be for a project period of up to five years. Depending on the availability of funds, the Department will make continuation awards for years two and three of the project period in accordance with section 75.253 of EDGAR (34 CFR 75.253). However, to ensure that continuation funds will be used only for high-quality and effective projects, in determining whether to award continuation grants for years four and five the Department will consider the following factors: (1) Whether funds are available; (2) whether the grantee meets the requirements in section 75.253 of EDGAR; and (3) whether the grantee is achieving the intended outcomes of the grant and shows improvement against baseline measures on the following indicators:

(a) Demonstration of progress in the implementation of a comprehensive State literacy plan.

(b) Demonstration of increased alignment of Federal and State funds and programs to support a coherent approach to effective literacy instruction.

(c) Demonstration that it has provided high-quality technical assistance to subgrantees and implemented a rigorous monitoring process to ensure that SRCL subgrant funds are used to support effective literacy instruction.

(d) Demonstration that it collects, analyzes, and uses high-quality and timely data, especially on program participant outcomes, to improve instructional practices, policies, and student outcomes in early learning programs and in schools.

(e) Demonstration of improvement on the program performance measures as set out in Performance Measures, part 5 of section VI of this notice, to the extent such data is available.

III. Eligibility Information

1. Eligible Applicants: SEAs.

2. Cost Sharing or Matching: This competition does not require cost sharing or matching.

IV. Application and Submission Information

1. Address to Request Application Package: You can obtain an application package via the Internet at: http://www2.ed.gov/programs/strivingreaders-literacy/applicant.html, or by contacting Miriam Lund, U.S. Department of Education, 400 Maryland Avenue, SW., Room 3E245, Washington, DC 20202-6200. Telephone: (202) 401-2871 or by e-mail: striving.readers.comprehensive.literacy@ed.gov.

If you use a telecommunications device for the deaf (TDD), call the Federal Relay Service (FRS), toll free, at 1-800-877-8339.

Individuals with disabilities can obtain a copy of the application package in an accessible format (e.g., Braille, large print, audiotape, or computer diskette) by contacting the program contact person listed in this section.

2. Content and Form of Application Submission: Requirements concerning the content of an application, together with the forms you must submit, are in the application package for this competition.

Deadline for Notice of Intent to Apply: April 1, 2011.

Page Limit: The application narrative is where you, the applicant, address the selection criteria that reviewers use to evaluate your application. You must limit the application narrative to 50 pages, using the following standards:

• A “page” is 8.5″ x 11″, on one side only, with 1″ margins at the top, bottom, and both sides.

• Double space (no more than three lines per vertical inch) all text in the application narrative.

• Use one of the following fonts: Times New Roman, Courier, Courier New, or Arial.

Our reviewers will not read any pages of your application that exceed the page limit.

3. Submission Dates and Times:

Applications Available: March 10, 2011.

Deadline for Notice of Intent to Apply: April 1, 2011. We will be able to develop a more efficient process for reviewing grant applications if we are aware of the number of applicants that intend to apply for funding under this competition. Therefore, the Secretary strongly encourages each potential applicant to notify us of the applicant's intent to submit an application for funding by sending a short e-mail message providing the applicant organization's name and address. The Secretary requests that this e-mail be sent to striving.readers.comprehensive.literacy@ed.gov with “Intent to Apply” in the e-mail subject line. Applicants that do not provide this e-mail notification may still apply for funding.

Deadline for Transmittal of Applications: May 9, 2011.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: July 5, 2011.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this competition must be submitted electronically unless you qualify for an exception to this requirement in accordance with the instructions in this section.

a. Electronic Submission of Applications.

Applications for grants under the Striving Readers Comprehensive Literacy Grant program, CFDA number 84.371C, must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for Striving Readers Comprehensive Literacy Grant program at www.Grants.gov. You must search for the downloadable application package for this competition by the CFDA number. Do not include the CFDA number's alpha suffix in your search (e.g., search for 84.371, not 84.371C).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must attach any narrative sections of your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Miriam Lund, U.S. Department of Education, 400 Maryland Avenue, SW., Room 3E245, Washington, DC 20202. FAX: (202) 260-8969.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.371C), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.371C), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The maximum score for all of the selection criteria is 100 points. The maximum score for each criterion and subcriterion is indicated in parentheses. The selection criteria for this competition are as follows:

(A) Quality of State-level activities. (37 points) In determining the quality of State-level activities, the Secretary considers:

(i) How the SEA will carry out the required State-level activities (described in the Additional Requirements section of this notice) and how it will align those activities with its comprehensive State literacy plan (10 points).

(ii) The SEA's goals for improving student literacy outcomes throughout the State for all students (e.g., limited-English-proficient students and students with disabilities), including a description of the data (which may include data gathered through a needs assessment) that the SEA has considered or will consider and a clear and credible path that the SEA will take to achieve these goals with the support of its LEAs (8 points).

(iii) How the SEA will provide technical assistance and support to its SRCL subgrantees (and, at its discretion, to other LEAs or early childhood education providers) to enable them to implement a high-quality comprehensive literacy program and to improve student achievement in core academic subjects (5 points).

(iv) How the SEA will evaluate the State's progress in improving achievement in literacy for children and youth from birth through grade 12, including disadvantaged students, including: (1) Whether the evaluation will be conducted by an independent evaluator (whose role in the project is limited solely to conducting the evaluation); (2) whether the evaluation will use methods that are thorough, feasible, and appropriate to the objectives of the proposed project; and (3) how the SEA will use evidence to inform and continuously improve the design and implementation of its activities (10 points).

(v) How the SEA will disseminate information on project outcomes, disaggregated by student subgroup, and in formats that are easily understood by, and accessible to, the public, and how the SEA will make that information useful to varied groups (such as families, educators, researchers, other experts, early childhood education providers, and State leaders) (4 points).

(B) Quality of the State subgrant competition. (28 points) In determining the quality of the applicant's proposed SRCL subgrant competition, the Secretary considers:

(i) The extent to which the SEA will run a rigorous, high-quality competition for subgrants, including how it will review and judge:

(a) The LEA's or early childhood education provider's capacity to successfully implement its proposal (3 points).

(b) The extent to which each SRCL subgrant applicant has proposed a comprehensive high-quality literacy program that meets all of the requirements set out in paragraph (d) of the Additional Requirements section in this notice and that (8 points):

(1) Addresses the needs of disadvantaged students and proposes to implement activities in schools and early learning programs with the highest levels of need and capacity for improvement.

(2) Is informed by a needs assessment described in the application and is designed to support effective teaching and to improve student achievement of struggling readers.

(3) Involves other agencies, nonprofit organizations, community-based organizations, and families in activities that promote the implementation of effective literacy instruction for disadvantaged students.

(c) The extent to which each SRCL subgrant applicant demonstrates that it will implement a coherent strategy to improve literacy instruction that aligns activities under the SRCL subgrant with literacy instruction supported with other Federal funds, including with funds the entity receives under Title I, Title II-A, and Title III of the ESEA and, as appropriate, the Head Start Act, the Individuals with Disabilities Education Act, and the Carl D. Perkins Career and Technical Education Act of 2006, and State and local funds (2 points).

(ii) The extent to which the SEA will give priority to LEAs or providers of early childhood education that propose to serve high-poverty schools or a high-poverty population, based on a definition of poverty and process for applying the priority provided by the State (6 points).

(iii) The extent to which the SEA will give priority to LEAs or providers of early childhood education whose applications are supported by the strongest available evidence (4 points).

(iv) The extent to which the SEA will develop or update a process, or use an existing process, to review and judge the evidence base and alignment with State standards for the curricula and materials that LEAs propose to use in implementing their subgrants, and how the SEA will make the process and results of any such review publicly available (5 points).

(C) Project management. (15 points) The Secretary considers the following factors in determining the quality of the project management plan:

(i) The adequacy of the management plan to achieve the objectives of the proposed project on time and within budget, including clearly defined responsibilities, timelines, and milestones for accomplishing project tasks (6 points).

(ii) The qualifications, including relevant training and experience, of key personnel (5 points).

(iii) The extent to which the State will ensure a diversity of perspectives in the design and implementation of the proposed project, including those of: Families, teachers, early childhood education professionals, officials from other State and local agencies, Head Start Advisory Councils, professional organizations, institutions of higher education, community-based organizations, and libraries (4 points).

(D) Adequacy of resources. (20 points) The Secretary considers the following factors in determining the adequacy of resources for the proposed project:

(i) The extent to which the costs described in the SEA's budget are reasonable in relation to the number of objectives, design, and potential significance of the proposed project (10 points).

(ii) The quality of the SEA's plan to ensure that SRCL subgrant funds are allocated as follows:

• At least 15 percent to serve children from birth through age five.

• At least 40 percent to serve students in kindergarten through grade five.

• At least 40 percent to serve students in middle and high school, through grade 12, including an equitable distribution of funds between middle and high schools (4 points).

(iii) The extent to which the SEA will use the grant to leverage other State and Federal funds in order to maximize the impact of the grant and how it will support LEAs and early childhood education providers in integrating funds with other local, State, and Federal funds and in developing a plan for sustaining funding after the end of the subgrant (3 points).

(iv) The extent to which the SEA will award SRCL subgrants of sufficient size to support projects that improve instruction for a significant number of students in the high-need schools or early learning programs serving children birth through five that the SRCL subgrantee would serve (3 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Transparency: After awards are made under this competition, all of the submitted applications (both successful and unsuccessful), together with reviewer scores and comments for those applications, will be posted on the Department's Web site.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

5. Performance Measures: The Department has established the following Government Performance and Results Act of 1993 (GPRA) performance measures for the Striving Readers Comprehensive Literacy grant program:

(1) The percentage of participating 4-year-old children who achieve significant gains in oral language skills.

(2) The percentage of participating 5th-grade students who meet or exceed proficiency on State English language arts assessments under section 1111(b)(3) of the ESEA.

(3) The percentage of participating 8th-grade students who meet or exceed proficiency on State English language arts assessments under section 1111(b)(3) of the ESEA.

(4) The percentage of participating high school students who meet or exceed proficiency on State English language arts assessments under section 1111(b)(3) of the ESEA.

Alternative Measures

All States are required to report on Performance Measure 1 above. States have the option of either reporting on Performance Measures 2, 3, and 4 above, or reporting on the following growth measures:

(2) The percentage of participating 5th-grade students who meet or exceed proficiency on State English language arts assessments under section 1111(b)(3) of the ESEA, including those students who demonstrate adequate growth under the State's Department-approved growth model and are counted as meeting or exceeding proficiency for purposes of accountability determinations.

(3) The percentage of participating 8th-grade students who meet or exceed proficiency on State English/language arts assessments under section 1111(b)(3) of the ESEA, including those students who demonstrate adequate growth under the State's Department-approved growth model and are counted as meeting or exceeding proficiency for purposes of accountability determinations.

(4) The percentage of participating high school students who meet or exceed proficiency on the State English language arts assessments under section 1111(b)(3) of the ESEA, including those students who demonstrate adequate growth under the State's Department-approved growth model and are counted as meeting or exceeding proficiency for purposes of accountability determinations.

All of the performance measures described in this section will include data disaggregated for disadvantaged students, including limited-English-proficient students and students with disabilities.

The measures described in this section constitute the Department's indicators of success for this program. Consequently, we advise an applicant for a grant under this program to give careful consideration to these measures in conceptualizing the approach and evaluation for its proposed project. Each grantee will be required to provide, in its annual performance and final reports, data about its progress in meeting these measures.

6. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23). In addition, in making continuation awards for years four and five, the Department will consider whether the grantee is achieving the intended outcomes of the grant and shows improvement against baseline data on specific indicators (listed in this notice under Budget Periods and Continuation Grants).

VII. Agency Contact

For Further Information Contact: Miriam Lund, U.S. Department of Education, 400 Maryland Avenue, SW., Room 3E245, Washington, DC 20202-6200. Telephone: (202) 401-2871 or by e-mail: striving.readers.comprehensive.literacy@ed.gov.

If you use a TDD, call the FRS, toll free, at 1-800-877-8339.

VIII. Other Information

Accessible Format: Individuals with disabilities can obtain this document and a copy of the application package in an accessible format (e.g., braille, large print, audiotape, or computer diskette) on request to the program contact person listed under For Further Information Contact in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 7, 2011.
Thelma Meléndez de Santa Ana,
Assistant Secretary for Elementary and Secondary Education.

[FR Doc. 2011-5545 Filed 3-9-11; 8:45 am]

BILLING CODE 4000-01-P